DEPARTMENT OF COMMERCE

National Oceanic and Atmospheric Administration

Membership of the National Oceanic and Atmospheric Administration Performance Review Board

AGENCY: National Oceanic and Atmospheric Administration (NOAA), Department of Commerce.

ACTION: Notice of membership of NOAA Performance Review Board.

SUMMARY: In accordance with 5 U.S.C. 4314(c)(4), NOAA announces the appointment of nineteen members to serve on the NOAA Performance Review Board (PRB). The NOAA PRB is responsible for reviewing performance appraisals and ratings of Senior Executive Service (SES) members and making written recommendations to the appointing authority on SES retention and compensation matters, including performance-based pay adjustments, awarding of bonuses and reviewing recommendations for potential Presidential Rank Award nominees, and SES recertification. The appointment of members to the NOAA PRB will be for a period of 24 months.

EFFECTIVE DATE: The effective date of service of the nineteen appointees to the NOAA Performance Review Board is September 16, 2002.

FOR FURTHER INFORMATION CONTACT: James P. Faulkner, Executive Resources Program Manager, Human Resources Management Office, Office of Finance and Administration, NOAA, 1305 East-West Highway, Silver Spring, Maryland 20910, (301) 713-0530 (ext. 204).

SUPPLEMENTARY INFORMATION: The names and position titles of the members of the NOAA PRB are set forth below (all are NOAA officials, except Tyra Smith, Director, Human Resources, Bureau of the Census, Department of Commerce; Gerald R. Lucas, Deputy Chief Financial Officer, Economic Development Administration, Department of Commerce; and Timothy J. Houser, Deputy Under Secretary for International Trade, International Trade Administration, Department of Commerce):

Mary M. Glackin, Deputy Assistant Administrator, National Environmental Satellite, Data and Information Service.

John E. Oliver, Jr. Deputy Assistant Administrator, National Marine Fisheries Service.

Louisa Koch, Deputy Assistant Administrator, Office of Oceanic and Atmospheric Research.

Jamison Hawkins, Deputy Assistant Administrator for Ocean and Coastal Zone Management, National Ocean Service.

John E. Jones, Jr., Deputy Assistant Administrator for Weather Services, National Weather Service.

Sonya S. Stewart, Chief Financial Officer/Chief Administrative Officer, Office of Finance and Administration.

Mary Beth S. Nethercutt, Director, Office of Legislative Affairs.

Tyra Smith, Director, Human Resources, Bureau of the Census.

David Kennedy, Director, Office of Response and Restoration, National Ocean Service.

David Rogers, Director, Office of Weather and Air Quality Research, Office of Oceanic and Atmospheric Research.

Gregory Mandt, Director, Office of Climate, Water and Weather Services, National Weather Service.

Rebecca Lent, Deputy Assistant Administrator, National Marine Fisheries Service.

Helen M. Hurcombe, Director, Acquisition, Grants and Facility Service, Office of Finance and Administration.

Jolene A. Lauria Sullens, Deputy Chief Financial Officer/Director of Budget, Office of Finance and Administration.

Gerald R. Lucas, Deputy Chief Financial Officer, Economic Development Administration, Department of Commerce.

Lee Dantzler, Director, National Oceanographic Data Center National Environmental Satellite, Data and Information Service.

Jordan P. St. John, Director, Office of Public and Constituent Affairs, Office of Public and Constituent Affairs, NOAA.

Timothy J. Houser, Deputy Under Secretary for International Trade, International Trade Administration, Department of Commerce.

Louis W. Uccellini, Director, National Centers for Environmental Prediction, National Weather Service.

Dated: September 4, 2002.
Scott B. Gudes,
Undersecretary for Oceans and Atmosphere.

[FR Doc. 02-23053 Filed 9-10-02; 8:45 am]

BILLING CODE 3510-12-M